NATIONAL CREDIT UNION ADMINISTRATION

SUNSHINE ACT MEETING

Time and Date: 10 a.m., Thursday, February 15, 2001.

Place: Board Room, 7th Floor, Room 7047, 1775 Duke Street, Alexandria, VA 22314-3428.

Status: Open.

Matters to be Considered: 1. Request from a Federal Credit Union to Convert to a Community Charter.

2. Interim Final Rule: Section 709.12, NCUA's Rules and Regulations, Prepayment Fees to Federal Home Loan Bank.

3. Proposed Rule, Amendment to Part 712, NCUA's Rules and Regulations, Credit Union Service Organizations.

4. Proposed Rule, Part 749, NCUA's Rules and Regulations, Vital Record Preservation.

Recess: 11:15 a.m.

Time and Date: 11:30 a.m., Thursday, February 15, 2001.

Place: Board Room, 7th Floor, Room 7047, 1775 Duke Street, Alexandria, VA 22314-3428.

Status: Closed.

Matters to be Considered: 1. Special Assistance Program. Closed pursuant to exemption (8).

2. Four (4) Personnel Matters. Closed pursuant to exemptions (2) and (6).

FOR FURTHER INFORMATION CONTACT: Becky Baker, Secretary of the Board, Telephone 703-518-6304.

Becky Baker,
Secretary of the Board.

[FR Doc. 01-3632 Filed 2-8-01; 2:00 pm]

BILLING CODE 7535-01-M